DEPARTMENT OF THE TREASURY

Departmental Offices; Privacy Act of 1974, as Amended; Systems of Records

AGENCY: Departmental Offices, Treasury.

ACTION: Notice of proposed new privacy act system of records.

SUMMARY: The Department of the Treasury proposes to add a new Treasury-wide system of records to its inventory of records systems subject to the Privacy Act of 1974 (5 U.S.C. 552a), as amended. This action is necessary to meet the requirements of the Privacy Act to publish in the Federal Register notice of the existence and character of records systems maintained by the agency (5 U.S.C. 552a(e)(4)).

DATES: The new system will be effective without further notice October 10, 2000, unless comments are received that would result in a contrary determination.

ADDRESSES: Comments should be sent to Director, Office of Personnel Policy, Room 6018 Metropolitan Square, Department of the Treasury, Washington, DC 20220.

FOR FURTHER INFORMATION CONTACT: Hank Reddick, Office of Personnel Policy, (202) 622-0735.

SUPPLEMENTARY INFORMATION: The Department of the Treasury Child Care Tuition Assistance Records system will collect family income data from Department of the Treasury employees for the purpose of determining their eligibility for child care tuition assistance. It also will collect information from the employee's child care provider(s) for verification purposes; e.g., that the provider is licensed. Collection of data will be by tuition assistance application forms submitted by employees.

The new system of records report as required by 5 U.S.C. 552a(r) of the Privacy Act has been submitted to the Committee on Government Operations of the House of Representatives, the Committee on Governmental Affairs of the Senate, and the Office of Management and Budget, pursuant to Appendix I to OMB Circular A-130, “Federal Agency Responsibilities for Maintaining Records About Individuals,” dated February 8, 1996.

The proposed Treasury Child Care Tuition Assistance Records—Treasury/DO .006 is published in its entirety below.

Dated: August 15, 2000.
Shelia Y. McCann,
Deputy Assistant Secretary (Administration).

Treasury/DO .006

System name:

Treasury Child Care Tuition Assistance Records.

System location:

Department of the Treasury,1500 Pennsylvania Ave., NW, Washington, DC 20220. The locations at which the system is maintained by Treasury components are:

1. a. Departmental Offices (DO):

1500 Pennsylvania Ave., NW, Washington, DC 20220.

b. The Office of Inspector General (OIG): 740 15th Street, NW, Washington, DC 20220.

c. Treasury Inspector General for Tax Administration (TIGTA): 1111 Constitution Ave., NW, Washington, DC 20224.

2. Bureau of Alcohol, Tobacco and Firearms (ATF): 650 Massachusetts Avenue, NW, Washington, DC 20226.

3. Office of the Comptroller of the Currency (OCC): 250 E Street, NW, Washington, DC 20219-0001.

4. United States Customs Service (CS): 1301 Constitution Avenue, NW, Washington DC 20229.

5. Bureau of Engraving and Printing (BEP): 14th & C Streets, SW, Washington, DC 20228.

6. Federal Law Enforcement Training Center (FLETC): Glynco, Ga. 31524.

7. Financial Management Service (FMS): 401 14th Street, SW, Washington, DC 20227.

8. Internal Revenue Service (IRS): 1111 Constitution Avenue, NW, Washington, DC 20224.

9. United States Mint (MINT): 801 9th Street, NW, Washington, DC 2022.

10. Bureau of the Public Debt (BPD): 200 Third Street, Parkersburg, WV 26101.

11. United States Secret Service (USSS): 950 H Street, NW, Washington, DC 20001.

12. Office of Thrift Supervision (OTS): 1700 G Street, NW, Washington, DC 20552.

Categories of individuals covered by the system:

Employees of the Department of the Treasury who voluntarily apply for child care tuition assistance, the employee's spouse, their children and their child care providers.

Categories of records in the system:

Records may include application forms for child care tuition assistance containing personal information, including employee (parent) name, Social Security Number, pay grade, home and work numbers, addresses, telephone numbers, total family income, names of children on whose behalf the parent is applying for tuition assistance, each child's date of birth, information on child care providers used (including name, address, provider license number and State where issued, tuition cost, and provider tax identification number), and copies of IRS Form 1040 and 1040A for verification purposes. Other records may include the child's social security number, weekly expense, pay statements, records relating to direct deposits, verification of qualification and administration for the child care tuition assistance.

Authority for maintenance of the system:

Pub. L. 106-58, section 643 and E.O. 9397.

Purpose:

To establish and verify Department of the Treasury employees' eligibility for child care subsidies in order for the Department of the Treasury to provide monetary assistance to its employees. Records are also maintained so the Department can make payments to child care providers on an employee's behalf.

Routine uses of records maintained in the system, including categories of users and the purposes of such uses:

These records may be used to: (1) Disclose pertinent information to the appropriate Federal, State, or local agency responsible for investigating, prosecuting, enforcing, or implementing a statute, rule, regulation, or order, where the Department of the Treasury becomes aware of an indication of a violation or potential violation of civil or criminal law or regulation;

(2) Provide information to a congressional office from the record of an individual in response to an inquiry from that congressional office made at the request of that individual;

(3) Disclose information to another Federal agency, to a court, or a party in litigation before a court or in an administrative proceeding being conducted by a Federal agency, when the Government is a party to the judicial or administrative proceeding. In those cases where the Government is not a party to the proceeding, records may be disclosed if a subpoena has been signed by a judge;

(4) Disclose information to the National Archives and Records Administration for use in records management inspections;

(5) Disclose information to the Department of Justice, or in a proceeding before a court, adjudicative body, or other administrative body before which the Department of the Treasury is authorized to appear, when: (a) The Department of the Treasury, or any component thereof; or (b) any employee of the Department of the Treasury in his or her official capacity; or (c) any employee of the Department of the Treasury in his or her individual capacity where the Department of Justice or the Department of the Treasury has agreed to represent the employee; or (d) the United States, when the Department of the Treasury determines that litigation is likely to affect the Department of the Treasury or any of its components; is a party to litigation or has an interest in such litigation, and the use of such records by the Department of Justice or the Department of the Treasury is deemed by the Department of the Treasury to be relevant and necessary to the litigation; provided, however, that the disclosure is compatible with the purpose for which records were collected;

(6) Provide records to the Office of Personnel Management, Merit Systems Protection Board, Equal Employment Opportunity Commission, Federal Labor Relations Authority, the Office of Special Counsel, and General Accounting Office for the purpose of properly administering Federal personnel systems or other agencies' systems in accordance with applicable laws, Executive Orders, and regulations;

(7) Disclose information to contractors, grantees, or volunteers performing or working on a contract, service, grant, or cooperative agreement, or job for the Federal Government;

(8) Disclose information to a court, magistrate, or administrative tribunal when necessary and relevant in the course of presenting evidence, including disclosures to opposing counsel or witnesses in the course of civil discovery, litigation, or settlement negotiations or in connection with criminal law proceedings or in response to a subpoena;

(9) Disclose information to unions recognized as exclusive bargaining representatives under 5 U.S.C. chapter 71, and other parties responsible for the administration of the Federal labor-management program if needed in the performance of their authorized duties.

Policies and practices for storing, retrieving, accessing, retaining, and disposing of records in the system:

Storage:

Information may be collected on paper or electronically and may be stored as paper forms or on computers.

Retrievability:

By name; may also be cross-referenced to Social Security Number.

Safeguards:

When not in use by an authorized person, paper records are stored in lockable file cabinets or secured rooms. Electronic records are protected by the use of passwords.

Retention and disposal:

Disposition of records is according to the National Archives and Records Administration (NARA) guidelines.

System manager(s) and address:

Treasury official prescribing policies and practices: Director, Office of Personnel Policy, Room 6018-Metropolitan Square, Department of the Treasury, Washington, DC 20220. Officials maintaining the system and records for the Treasury components are:

1. a. DO: Director, Office of Personnel Resources, Department of the Treasury, Room 1462-MT, Washington, DC 20220.

b. Office of General Counsel: Administrative Officer, Department of the Treasury, Room 1417-MT, Washington, DC 20220.

c. OIG: Personnel Officer, 740 15th St., NW, Suite 510, Washington, DC 20220.

d. TIGTA: Director, Management Resources & Support, 1111 Constitution Ave., NW, TIGTA: IG:NS:HR, Room 6402, Washington, DC 20224.

2. ATF: Chief, Personnel Division 650 Massachusetts Ave., NW, Room 4100, Washington, DC 20226.

3. OCC: Director, Human Resources Division Independence Square, 250 E St., SW, 4th Floor, Washington, DC 20219.

4. USCS: Personnel Director, HRM, 1300 Pennsylvania Ave., NW Room 2.4a, International Trade Center, Washington, DC 20229.

5. BEP: Chief, Office of Human Resources. 14th & C St., SW, Room 202-13a, Washington, DC 20228.

6. FLETC: Human Resources Officer, Bldg 94, Room E-2, Glynco, GA 31524.

7. FMS: Director, Human Resources Division, PG Center II Bldg, Rm. 114f, 3700 East West Highway, Hyattsville, MD 20782.

8. IRS: Director Personnel Policy Division, 1111 Constitution Ave., Building CP6—M:S:P, Washington, DC 20224.

9. MINT: Assistant Director, Human Resources 801 9th Street, NW, Room 6S34, Washington, DC 20220.

10. BPD: Child Care Assistance Program (CCAP) Coordinator P.O. Box 1328, Room 302, Parkersburg, W. VA 26106-1328.

11. USSS: Chief, Personnel Division 950 H St., NW, 7th Floor, Washington, DC 20223.

12. OTS: Director, Human Resources Division, 1700 G St., NW, 2nd Floor, Washington, DC 20552.

Notification procedure:

Individuals seeking access to any record contained in the system of records, or seeking to contest its content, may inquire in accordance with instructions given in the appendix for each Treasury component appearing at 31 CFR part 1, subpart C.

Record access procedures:

See “Notification procedure” above.

Contesting record procedures:

See “Notification procedure” above.

Record source categories:

Information is provided by Department of the Treasury employees who apply for child care tuition assistance.

Exemptions claimed for the system:

None.

[FR Doc. 00-22260 Filed 8-30-00; 8:45 am]

BILLING CODE 4810-25-P